DEPARTMENT OF COMMERCE

National Oceanic and Atmospheric Administration

Marine Protected Areas Federal Advisory Committee; Public Meeting

AGENCY: Office of National Marine Sanctuaries (ONMS), National Ocean Service (NOS), National Oceanic and Atmospheric Administration (NOAA), Department of Commerce (DOC).

ACTION: Notice of open meeting.

SUMMARY: Notice is hereby given of a meeting of the Marine Protected Areas Federal Advisory Committee (Committee) in Annapolis, Maryland.

DATES: The meeting will be held on Tuesday, May 23, 2017, from 9:00 a.m. to 5:00 p.m. and Wednesday, May 24, 2017, from 9:00 a.m. to 4:30 p.m. These times and the agenda topics described below are subject to change. Refer to the Web page listed below for the most up-to-date meeting agenda.

ADDRESSES: The meeting will be held at the Annapolis Maritime Museum at 723 Second Street, Annapolis, Maryland 21403.

FOR FURTHER INFORMATION CONTACT: Lauren Wenzel, Designated Federal Officer, MPA FAC, National Marine Protected Areas Center, 1305 East-West Highway, Silver Spring, Maryland 20910. (Phone: 240-533-0652, Fax: 301-713-3110); email: lauren.wenzel@noaa.gov; or visit the National MPA Center Web site at http://marineprotectedareas.noaa.gov/fac).

SUPPLEMENTARY INFORMATION: The Committee, composed of external, knowledgeable representatives of stakeholder groups, was established by the Department of Commerce (DOC) to provide advice to the Secretaries of Commerce and the Interior on implementation of Section 4 of Executive Order 13158, on marine protected areas (MPAs). The meeting is open to the public, and public comment will be accepted from 4:30 p.m. to 5:00 p.m. on Tuesday, May 23, 2017. In general, each individual or group will be limited to a total time of five (5) minutes. If members of the public wish to submit written statements, they should be submitted to the Designated Federal Official by Friday, May 19, 2017.

Matters To Be Considered: The focus of the Committee's meeting will be to discuss ways in which the Committee can most effectively work with NOAA and the Department of the Interior, to elect new Committee leadership, and to establish Subcommittees and Working Groups, as needed, to address the Committee's new charge. The agenda is subject to change. The latest version will be posted at http://marineprotectedareas.noaa.gov/fac.

Dated: April 12, 2017.
John A. Armor,
Director, Office of National Marine Sanctuaries, National Ocean Service, National Oceanic and Atmospheric Administration.

[FR Doc. 2017-07985 Filed 4-19-17; 8:45 am]

BILLING CODE 3510-NK-P